DEPARTMENT OF AGRICULTURE

Animal and Plant Health Inspection Service

[Docket No. APHIS-2018-0079]

Notice of Request for Reinstatement of Approval of an Information Collection; National Management Information System

ACTION: Reinstatement of approval of an information collection; comment request.

SUMMARY: In accordance with the Paperwork Reduction Act of 1995, this notice announces the Animal and Plant Health Inspection Service's intention to request a reinstatement of approval of an information collection associated with the national management information system for cooperative wildlife damage management programs.

DATES: We will consider all comments that we receive on or before February 4, 2019.

ADDRESSES: You may submit comments by either of the following methods:

• Federal eRulemaking Portal: Go to http://www.regulations.gov/#!docketDetail;D=APHIS-2018-0079.

• Postal Mail/Commercial Delivery: Send your comment to Docket No. APHIS-2018-0079, Regulatory Analysis and Development, PPD, APHIS, Station 3A-03.8, 4700 River Road Unit 118, Riverdale, MD 20737-1238.

Supporting documents and any comments we receive on this docket may be viewed at http://www.regulations.gov/#!docketDetail;D=APHIS-2018-0079 or in our reading room, which is located in room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the national management information system for cooperative wildlife damage management programs, contact Mr. Robert Myers, Wildlife Biologist, Wildlife Services, APHIS, 4700 River Road Unit 87, Riverdale, MD 20737; (301) 651-8845. For more detailed information on the information collection, contact Ms. Kimberly Hardy, APHIS' Information Collection Coordinator, at (301) 851-2483.

SUPPLEMENTARY INFORMATION: Title: National Management Information System.

OMB Control Number: 0579-0335.

Type of Request: Reinstatement of approval of an information collection.

Abstract: The Secretary of Agriculture is authorized under Section 426 of the Act of March 2, 1931, as amended (7 U.S.C. 8351-8354; 46 Stat. 1468), to conduct a program of wildlife services with respect to injurious animal species. Large populations of aggressive wildlife species, if left unmanaged, may cause tremendous amounts of damage to crops, livestock herds, and private property within the United States. Without mitigation, the damage could result in severe economic losses for agricultural businesses and private property owners. The Act authorizes the Secretary to take any action he considers necessary for the control of nuisance mammals and birds and those mammal and bird species that are reservoirs for zoonotic diseases.

The United States Department of Agriculture, Animal and Plant Health Inspection Service, Wildlife Services (WS), is responsible for assisting the public with mitigating wildlife damage. WS provides advice or enters into agreements with State and local jurisdictions, Tribes, public and private agencies, organizations, institutions, and individuals to provide its services. Through its technical assistance approach, WS offers advice through telephone or onsite consultations, training sessions, demonstration projects, and other means. Mitigation activities are then performed by the requester. WS also provides a cooperative direct control approach where goods, services, and expertise are provided on a cost reimbursable basis. WS collects only information needed to determine appropriate courses of action for providing effective services. Information is used by the agency to:

• Identify cooperators appropriately;

• Identify lands on which WS personnel will work;

• Differentiate between cooperators (i.e., property owners, land managers, or resource owners) who request assistance to manage damage caused by wildlife;

• Identify the land areas on which wildlife damage management activities would be conducted;

• Identify the relationship between resources or property, WS' protection of such resources or property, and the damage caused by wildlife;

• Determine the methods or damage management activities to deal with the damage;

• Establish a record that a cooperative agreement has been entered into with a cooperator;

• Document that permission has been obtained from landowners to go on the cooperator's property;

• Record wildlife damage occurrences on cooperator's property and steps to address them;

• Record occurrences which may have affected non-target species or humans during, or related to, WS project actions; and

• Determine satisfaction with service to help WS evaluate, modify, and improve its programs.

Information collection activities include work initiation documents, assistance requests, protected resource queries, project reports, order forms and sales records, equipment issuances, migratory bird damage reports, permits, reports of injury or death to non-target animals, accident reports, pilot proficiency reviews, and invoice transmittals.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.05 hours per response.

Respondents: State, local, and Tribal governments; businesses, not-for-profits, and other public sector organizations; and individuals who request services from WS or engage in wildlife damage management projects with WS.

Estimated annual number of respondents: 98,906.

Estimated annual number of responses per respondent: 1.123.

Estimated annual number of responses: 111,120.

Estimated total annual burden on respondents: 5,503 hours. (Due to averaging, the total annual burden hours may not equal the product of the annual number of responses multiplied by the reporting burden per response.)

All responses to this notice will be summarized and included in the request for OMB approval. All comments will also become a matter of public record.

Done in Washington, DC, this 29th day of November 2018.
Kevin Shea,
Administrator, Animal and Plant Health Inspection Service.

[FR Doc. 2018-26434 Filed 12-4-18; 8:45 am]

BILLING CODE 3410-34-P